ENVIRONMENTAL PROTECTION AGENCY

[ER-FRL-9040-1]

Environmental Impact Statements; Notice of Availability

Responsible Agency: Office of Federal Activities, General Information (202) 564-7156 or https://www2.epa.gov/nepa/.

Weekly receipt of Environmental Impact Statements

Filed 06/18/2018 Through 06/22/2018

Pursuant to 40 CFR 1506.9.

Section 309(a) of the Clean Air Act requires that EPA make public its comments on EISs issued by other Federal agencies. EPA's comment letters on EISs are available at: https://cdxnodengn.epa.gov/cdx-enepa-public/action/eis/search.

EIS No. 20180140, Draft, DOI, OK, Draft Environmental Impact Statement for the Proposed Habitat Conservation Plan for the Endangered American Burying Beetle for American Electric Power in Oklahoma, Arkansas, and Texas, Comment Period Ends: 08/13/2018, Contact: Adam Zerrenner 512-490-0057

EIS No. 20180141, Final Supplement, USFS, WA, Pack and Saddle Stock Outfitter-Guide Special Use Permit Issuance, Review Period Ends: 08/20/2018, Contact: Paul Willard 509-682-4960

EIS No. 20180142, Draft, BLM, AZ, San Pedro Riparian National Conservation Area Resource Management Plan and Environmental Impact Statement, Comment Period Ends: 09/27/2018, Contact: Amy Markstein 520-258-7231

EIS No. 20180143, Adoption, DHS, SC, Charleston Naval Complex (CNC) Proposed Construction of a Marine Container Terminal Cooper River in Charleston Harbor, City of North Charleston, Charleston County, SC, Review Period Ends: 07/30/2018, Contact: Mark Harvison 912-267-3239

EIS No. 20180144, Final, FERC, OK, Midcontinent Supply Header Interstate Pipeline Project, Review Period Ends: 07/30/2018, Contact: Elaine Baum 202-502-6467

EIS No. 20180145, Final, FHWA, NV, Pyramid Highway/US 395 Connection, Review Period Ends: 07/30/2018, Contact: Abdelmoez Abdalla 775-687-1231

EIS No. 20180146, Final, USFS, WA, LeClerc Creek Grazing Allotment Management Planning, Review Period Ends: 08/13/2018, Contact: Gayne Sears 509-447-7300

EIS No. 20180148, Final, USACE, SC, Navy Base Intermodal Container Transfer Facility, Review Period Ends: 07/30/2018, Contact: Shawn Boone 843-329-8044

EIS No. 20190147, Draft, FERC, LA, Calcasieu Pass Project, Comment Period Ends: 08/13/2018, Contact: Shannon Crosley 202-502-8853

Dated: June 26, 2018.
Robert Tomiak,
Director, Office of Federal Activities.

[FR Doc. 2018-14003 Filed 6-28-18; 8:45 am]

BILLING CODE 6560-50-P